DEPARTMENT OF JUSTICE

Notice of Extension of Public Comment Period for Lodging of Consent Decree Under the Clean Water Act

On December 14, 2011, a proposed Consent Decree (“Decree”) was lodged with the United States District Court for the Northern District of Illinois in a case captioned United States, et al. v. Metropolitan Water Reclamation District of Greater Chicago, Civil Action No. 1:11-cv-08859.

In this action the United States, on behalf of the U.S. Environmental Protection Agency (“U.S. EPA”), and the State of Illinois sought penalties and injunctive relief under the Clean Water Act (“CWA”) against the Metropolitan Water Reclamation District of Greater Chicago (“Defendant”) relating to discharges from its combined sewer outfalls (“CSOs”). The Complaint alleges that Defendant violated the following CSO-related provisions of its CWA permits: the prohibition on discharging pollutants into waters of the United States that cause or contribute to violations of applicable water quality standards for dissolved oxygen, solids, and floatables. The United States also alleges that Defendant violated the requirement of its NPDES permits to provide the equivalent of primary treatment for at least ten times the average dry weather flow for the average design year.

The proposed Consent Decree between Defendant, the United States, and the State of Illinois requires the following: (1) A schedule for completion of the Tunnel and Reservoir Program (“TARP”), the long term control plan to increase Defendant's capacity to handle wet weather events and address CSO discharges in Chicago area waterways; (2) a plan to control floatables in such waterways; (3) post construction monitoring following completion of TARP; (4) payment of a civil penalty of $675,000, of which $350,000 will be paid to the United States and $325,000 to the State of Illinois; and (5) a green infrastructure program to reduce CSO discharges, localized flooding and stormwater impacts.

In a Federal Register Notice published on December 22, 2011, the Department of Justice announced its intention to receive comments relating to the Consent Decree for a period of thirty (30) days from the date of that publication. 76 FR 79,710 (Dec. 22, 2011). In response to a request from various entities, the Department of Justice is extending that public comment period for sixty (60) days, until March 21, 2012. Comments should be addressed to the Assistant Attorney General, Environment and Natural Resources Division, P.O. Box 7611, U.S. Department of Justice, Washington, DC 20044-7611, and either emailed to pubcomment-ees.enrd@usdoj.gov or mailed to P.O. Box 7611, U.S. Department of Justice, Washington, DC 20044-7611, and should refer to United States, et al. v. Metropolitan Water Reclamation District of Greater Chicago, D.J. Ref. 90-5-1-1-07679. During the public comment period, the Decree may be examined on the Department of Justice Web site, http://www.usdoj.gov/enrd/Consent_Decrees.html. A copy of the Decree may also be obtained by mail from the Consent Decree Library, P.O. Box 7611, U.S. Department of Justice, Washington, DC 20044-7611 or by emailing a request to “Consent Decree Copy” (EESCDCopy.ENRD@usdoj.gov), or by faxing a request to fax no. (202) 514-0097, phone confirmation number (202) 514-5271. In requesting a copy from the Consent Decree Library, please enclose a check in the amount of $31.25 (25 cents per page reproduction cost) payable to the U.S. Treasury or, if by email or fax, forward a check in that amount to the Consent Decree Library at the stated address.

Maureen Katz,
Assistant Chief, Environmental Enforcement Section, Environment and Natural Resources Division.

[FR Doc. 2012-718 Filed 1-13-12; 8:45 am]

BILLING CODE;P